DEPARTMENT OF DEFENSE

GENERAL SERVICES ADMINISTRATION

NATIONAL AERONAUTICS AND SPACE ADMINISTRATION

48 CFR Chapter 1

[Docket FAR 2012-0081, Sequence 7]

Federal Acquisition Regulation; Federal Acquisition Circular 2005-62; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2005-62, which amends the Federal Acquisition Regulation (FAR). An asterisk (*) next to a rule indicates that a regulatory flexibility analysis has been prepared. Interested parties may obtain further information regarding this rule by referring to FAC 2005-62, which precedes this document. These documents are also available via the Internet at http://www.regulations.gov.

DATES: November 20, 2012.

FOR FURTHER INFORMATION CONTACT: For clarification of content, contact the analyst whose name appears in the table below. Please cite FAC 2005-62 and the FAR case number. For information pertaining to status or publication schedules, contact the Regulatory Secretariat at 202-501-4755.

List of Rules in FAC 2005-62
Item | Subject | FAR case | Analyst
I | Updates to Contract Reporting and Central Contractor Registration | 2010-014 | Loeb.
II* | Interagency Acquisitions: Compliance by Nondefense Agencies with Defense Procurement Requirements | 2012-010 | Corrigan.
III | Free Trade Agreement—Panama | 2012-027 | Davis.

SUPPLEMENTARY INFORMATION: Summaries for each FAR rule follow. For the actual revisions and/or amendments made by these FAR cases, refer to the specific item numbers and subjects set forth in the documents following these item summaries. FAC 2005-62 amends the FAR as specified below:

Item I—Updates to Contract Reporting and Central Contractor Registration (FAR Case 2010-014)

GSA, DOD, and NASA published a proposed rule in the Federal Register at 76 FR 73564 on November 29, 2011 to revise the practice for and limit the use of generic Data Universal Numbering System (DUNS) Numbers, update policies on reporting into the Federal Procurement Data System (FPDS), and revise clauses for Central Contractor Registration (CCR) and DUNS Number reporting. The rule increases transparency by reducing the use of generic DUNs, but may require more small businesses to register in CCR. The rule clarifies that non-appropriated fund awards will generally not be included in FPDS. The rule also clarifies requirements for agencies to submit and review contract action reports in FPDS. This rule uses the existing term “Central Contractor Registration” rather than “System for Award Management,” because FAR Case 2012-033 will address the terminology update to “System for Award Management” throughout the FAR.

Item II—Interagency Acquisitions: Compliance by Nondefense Agencies With Defense Procurement Requirements (FAR Case 2012-010)

This interim rule amends the FAR to implement section 801 of the National Defense Authorization Act for Fiscal Year 2008 (Pub. L. 110-181), as amended (10 U.S.C. 2304 note). Section 801 requires compliance certifications by non-defense agencies that purchase on behalf of DoD, and clarifies which DoD laws and regulations apply. The agencies must comply with new FAR subpart 17.7, in addition to complying with FAR subpart 17.5. To provide clarification for small business and contracting officers, existing policy for small business goal credit for assisted acquisitions is added to section FAR 4.603(c).

Item III—Free Trade Agreement—Panama (FAR Case 2012-027)

This interim rule implements a new Free Trade Agreement with Panama (see the United States—Panama Trade Promotion Agreement Implementation Act (Pub. L. 112-43) (19 U.S.C. 3805 note)).

This Trade Promotion Agreement is a free trade agreement that provides for mutually non-discriminatory treatment of eligible products and services from Panama. This interim rule is not expected to have a significant economic impact on a substantial number of small entities.

Dated: November 9, 2012.
Laura Auletta,
Director, Office of Governmentwide Acquisition Policy, Office of Acquisition Policy, Office of Governmentwide Policy.

[FR Doc. 2012-27907 Filed 11-19-12; 8:45 am]

BILLING CODE P